DEPARTMENT OF VETERANS AFFAIRS

[OMB Control No. 2900-0018]

Agency Information Collection (Application for Accreditation as Service Organization Representative) Activities Under OMB Review

AGENCY: Office of General Counsel, Department of Veterans Affairs.

ACTION: Notice.

SUMMARY: In compliance with the Paperwork Reduction Act (PRA) of 1995 (44 U.S.C. 3501-3521), this notice announces that the Office of General Counsel, Department of Veterans Affairs, has submitted the collection of information abstracted below to the Office of Management and Budget (OMB) for review and comment. The PRA submission describes the nature of the information collection and its expected cost and burden; it includes the actual data collection instrument.

DATES: Comments must be submitted on or before August 1, 2012.

ADDRESSES: Submit written comments on the collection of information through www.Regulations.gov; or to VA's OMB Desk Officer, OMB Human Resources and Housing Branch, New Executive Office Building, Room 10235, Washington, DC 20503 (202) 395-7316. Please refer to “OMB Control No. 2900-0018” in any correspondence.

FOR FURTHER INFORMATION CONTACT: Denise McLamb, Enterprise Records Service (005R1B), Department of Veterans Affairs, 810 Vermont Avenue NW, Washington, DC 20420, (202) 632-7479, fax (202) 632-7583 or email denise.mclamb@va.gov. Please refer to “OMB Control No. 2900-0018.”

SUPPLEMENTARY INFORMATION: Titles: Application for Accreditation as Service Organization Representative, VA Form 21; Accreditation Cancellation Information.

OMB Control Number: 2900-0018.

Type of Review: Extension of a currently approved collection.

Abstract: Service organizations are required to file an application with VA to establish eligibility for accreditation for representatives of that organization to represent benefit claimants before VA. VA Form 21 is completed by service organizations to establish accreditation for representatives, recertify the qualifications of accredited representatives.

Organizations requesting cancellation of a representative's accreditation based on misconduct or incompetence or resignation to avoid cancellation of accreditation based upon misconduct or incompetence, are required to inform VA of the specific reason for the cancellation request. VA will use the information collected to determine whether service organizations representatives continue to meet regulatory eligibility requirements to ensure claimants have qualified representatives to assist in the preparation, presentation and prosecution of their claims for benefits.

An agency may not conduct or sponsor, and a person is not required to respond to a collection of information unless it displays a currently valid OMB control number. The Federal Register Notice with a 60-day comment period soliciting comments on this collection of information was published on April 23, 2012, at page 24269.

Affected Public: Not-for profit institutions.

Estimated Annual Burden: 1,003 hours.

Estimated Average Burden Per Respondent: 15 minutes.

Frequency of Response: On occasion.

Estimated Number of Respondents: 4,780.

Dated: June 27, 2012.
By direction of the Secretary.
Denise McLamb,
Program Anaylst, Enterprise Records Service.

[FR Doc. 2012-16106 Filed 6-29-12; 8:45 am]

BILLING CODE 8320-01-P